ENVIRONMENTAL PROTECTION AGENCY

40 CFR Part 180

Oxathiapiprolin; Pesticide Tolerances

CFR Correction

In Title 40 of the Code of Federal Regulations, Parts 150 to 189, revised as of July 1, 2018, on page 727, in § 180.685, an entry for “Vegetable, Brassica head and stem, group 5-16, 1.5 ppm” is added alphabetically to the table in paragraph (a).

[FR Doc. 2019-11000 Filed 5-23-19; 8:45 am]

BILLING CODE 1301-00-D